DEPARTMENT OF THE INTERIOR

Bureau of Land Management

43 CFR Parts 3100, 3106, 3108, 3130, and 3160

[WO-310-1310-01-24 1A-PB]

RIN 1004-AC54

Oil and Gas Leasing: Onshore Oil and Gas Operations: Delay of Effective Date

AGENCY: Bureau of Land Management, Interior.

ACTION: Final rule; delay of effective date.

SUMMARY: In accordance with the memorandum of January 20, 2001, from the Assistant to the President and Chief of Staff, entitled “Regulatory Review Plan,” 66 FR 7701 (January 24, 2001), this document temporarily delays for 60 days the effective date of the rule entitled “Oil and Gas Leasing: Onshore Oil and Gas Operations,” published in the Federal Register on January 10, 2001 (66 FR 1883). The final rule will: clarify the responsibilities of oil and gas lessees and operating rights owners for protecting Federal and Indian oil and gas resources from drainage; specify when the obligations of the lessee or operating rights owner to protect against drainage begin and end; clarify what steps to take to determine if drainage is occurring; and specify the responsibilities of assignors and assignees for reclamation and other lease obligations.

EFFECTIVE DATE: The effective date of the Oil and Gas Leasing: Onshore Oil and Gas Operations Final Rule, amending 43 CFR 3100, 3106, 3108, 3130, and 3160; published in the Federal Register on January 10, 2001. (66 FR 1883), is delayed for 60 days; from February 9, 2001 to a new effective date of April 10, 2001.

FOR FURTHER INFORMATION CONTACT: Donnie Shaw, Fluid Minerals Group, Bureau of Land Management, Mail Stop 401LS, 1849 “C” Street, NW, Washington, D.C. 20240; telephone (202) 452-0382 (Commercial or FTS). Individuals who use a telecommunications device for the deaf (TDD) may call the Federal Information Relay Services at 1-800-877-8339, seven days a week, 24 hours a day, except holidays, for assistance in reaching Mr. Shaw.

SUPPLEMENTARY INFORMATION: To the extent that 5 U.S.C. 553 applies to this action, the action is exempt from notice and comment because it constitutes a rule of procedure under 5 U.S.C. 553(b)(A). Alternatively, the Department's implementation of this action without opportunity for public comment, effective immediately upon publication today in the Federal Register, is based on the good cause exceptions in 5 U.S.C. 553(b)(3)(B) and 553(d)(3), in that seeking public comment is impractical, unnecessary and contrary to the public interest. The temporary 60-day delay in the effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Dated: January 31, 2001.
Piet deWitt,
Acting Assistant Secretary, Land and Minerals Management.

[FR Doc. 01-3365 Filed 2-7-01; 8:45 am]

BILLING CODE 4310-84-P